DEPARTMENT OF AGRICULTURE

Forest Service

Central Montana Resource Advisory Committee

AGENCY: Forest Service, USDA.

ACTION: Notice of meeting.

SUMMARY: The Central Montana Resource Advisory Committee will meet in Stanford, MT. The committee is authorized under the Secure Rural Schools and Community Self-Determination Act (Pub. L. 110-343) (the Act) and operates in compliance with the Federal Advisory Committee Act. The purpose of the committee is to improve collaborative relationships and to provide advice and recommendations to the Forest Service concerning projects and funding consistent with the title II of the Act. The meeting is open to the public. This will be the second official meeting of the Central Montana Resource Advisory Committee.

DATES: The meeting will be held June 1, 2011, 7 p.m.

ADDRESSES: The meeting will be held at the Judith Ranger District, 109 Central Ave. Written comments may be submitted as described under Supplementary Information.

All comments, including names and addresses when provided, are placed in the record and are available for public inspection and copying. The public may inspect comments received at the Judith Ranger District. Please call ahead to (406) 566-2292 to facilitate entry into the building to view comments.

FOR FURTHER INFORMATION CONTACT: Ron Wiseman, District Ranger, Lewis and Clark National Forest, (406) 566-2292, rwiseman@fs.fed.us.

Individuals who use telecommunication devices for the deaf (TDD) may call the Federal Information Relay Service (FIRS) at 1-800-877-8339 between 8 a.m. and 8 p.m., Eastern Standard Time, Monday through Friday. Requests for reasonable accommodation for access to the facility or proceedings may be made by contacting the person listed For Further Information.

SUPPLEMENTARY INFORMATION: The following business will be conducted: (1) Discussion and approval of RAC operating guidelines. (2) Discussion of project development and recommendation process. (3) Review and vote on projects. Anyone who would like to bring related matters to the attention of the committee may file written statements with the committee staff before or after the meeting. The agenda will include time for people to make oral statements of three minutes or less. Individuals wishing to make an oral statement should request in writing by May 18 to be scheduled on the agenda. Written comments and requests for time for oral comments must be sent to 109 Central Ave., Stanford, MT 59479, or by e-mail to rwiseman@fs.fed.us, or via facsimile to (406) 566-2408.

Dated: May 9, 2011.
Ron B. Wiseman,
District Ranger.

[FR Doc. 2011-12569 Filed 5-23-11; 8:45 am]

BILLING CODE 3410-11-M